DEPARTMENT OF VETERANS AFFAIRS

Notice of Intent To Grant an Exclusive License

AGENCY: Department of Veterans Affairs, Office of Research and Development.

ACTION: Notice of intent.

SUMMARY: Notice is hereby given that the Department of Veterans Affairs, Office of Research and Development, intends to grant Global Therapy Monitoring LLC, 6931 Arlington Road, Bethesda, MD 20814 USA an exclusive license to practice the following patent applications: U.S. Provisional Patent Application Serial No. 60/547,052 filed February 25, 2004, entitled “Methods for Diagnosing and Treating Bladder Cancer”; U.S. Provisional Patent Application Serial No. 60/532,889 filed December 30, 2003, entitled “Macrophage Migration Inhibitory Factor (MIF) as a Marker for Urological Inflammatory Disease”; U.S. Patent Application Serial No. 10/644,797 filed on August 21, 2003, and International Patent Application Serial No. PCT/US04/05288 filed on February 24, 2004, entitled “Serum Macrophage Migration Inhibitory Factor (MIF) as a Marker for Prostate Cancer.”

DATES: Comments must be received within fifteen (15) days from the date of this published Notice.

ADDRESSES: Send comments to Saleem J. Sheredos, Acting Director of Technology Transfer, Department of Veterans Affairs; Office of Research and Development, Attn: 12TT; 103 South Gay Street, Baltimore, MD 21202. Telephone: (410) 962-1800 ext 267; Facsimile: (410) 962-2141; e-mail: saleem@vard.org.

FOR FURTHER INFORMATION CONTACT: Copies of the published patent applications may be obtained from the U.S. Patent and Trademark Office at http://www.uspto.gov.

SUPPLEMENTARY INFORMATION: It is in the public interest to so license these inventions as Global Therapy Monitoring LLC submitted a complete and sufficient application for a license. The prospective exclusive license will be royalty-bearing and will comply with the terms and conditions of 35 U.S.C. 209 and 37 CFR 404.7. The prospective exclusive license may be granted unless, within fifteen (15) days from the date of this published Notice, the Department of Veterans Affairs Office of Research and Development receives written evidence and argument which establishes that the grant of the license would not be consistent with the requirements of 35 U.S.C. 209 and 37 CFR 404.7.

Approved: July 13, 2005.
Gordon H. Mansfield,
Deputy Secretary of Veterans Affairs.

[FR Doc. 05-14541 Filed 7-21-05; 8:45 am]

BILLING CODE 8320-01-P